SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than November 26, 2010. Individuals can obtain copies of the collection instruments by calling the SSA Reports Clearance Officer at 410-965-8783 or by writing to the above email address.

1. State Mental Institution Policy Review Booklet—20 CFR 404.2035, 404.2065, 416.635, & 416.665—0960-0110. SSA uses the information collected on Form SSA-9584-BK to determine whether: (1) The policies and practices of a state mental institution acting as a representative payee for SSA beneficiaries conform to SSA's regulations regarding the use of benefits and payments; and (2) the institution is performing other duties and responsibilities required of representative payees. SSA also uses the information as the basis for conducting onsite reviews of the institution and preparing subsequent reports of findings. The respondents are state mental institutions serving as representative payees for Social Security beneficiaries and Supplemental Security Income recipients.

Type of Request: Revision of an OMB-approved information collection.

Number of Respondents: 88.

Frequency of Response: 1.

Average Burden per Response: 60 minutes.

Estimated Annual Burden: 88 hours.

2. Employee Identification Statement—20 CFR 404.702—0960-0473. When two or more individuals report earnings under the same Social Security number (SSN), SSA collects information on the SSA-4156 so we can credit earnings to the correct individual and the correct SSN. We send this form to the employer to identify the employees involved, to resolve the discrepancy, and to post earnings to the correct SSN. The respondents are employers involved in erroneous wage information reporting for an employee.

Type of Request: Revision of an OMB-approved information collection.

Number of Respondents: 4,750.

Frequency of Response: 1.

Average Burden per Response: 10 minutes.

Estimated Annual Burden: 792 hours.

II. SSA has submitted the information collections listed below to OMB for clearance. Your comments on the information collections would be most useful if OMB and SSA receive them within 30 days from the date of this publication. To be sure we consider your comments, we must receive them no later than October 27, 2010. You can obtain a copy of the OMB clearance packages by calling the SSA Reports Clearance Officer at 410-965-8783 or by writing to the above email address.

1. Requests for Self-Employment Information, Employee Information, Employer Information—20 CFR 422.120—0960-0508. SSA collects information on the SSA-L2765, SSA-L3365, and SSA-L4002 to credit the reported earnings to the proper earnings record. When SSA cannot identify Form W-2 wage data for an individual, we place the data in the earnings suspense file and send one of the forms cited above to the employee (and in certain instances to the employer) to obtain the correct name and SSN. If the respondent furnishes the name and SSN information that agrees with SSA's records, or provides information that resolves the discrepancy, SSA adds the reported earnings to the respondent's Social Security record. While SSA does not require respondents to provide the information to keep a benefit, if they do not furnish the missing or corrected information, we cannot credit the wages or self-employment income to the proper earnings record. The respondents are self-employed individuals and employees whose name and SSN information do not agree with SSA's records and their employers.

Note: This is a correction notice. When SSA published the 60-day Federal Register Notice for this collection on May 13, 2010 at 75 FR 27036, the burden figures we reported were correct at that time. However, we have since received updated burden data (the addition of the DECOR Notice category), which we are reporting in the new burden chart below.

Type of Request: Revision of an OMB approved information collection.

Form | Number of respondents | Frequency of response | Response time (minutes) | Burden (hours)
SSA-L2765 | 7,870 | 1 | 10 | 1,312
SSA-L3365 | 158,334 | 1 | 10 | 26,389
SSA-L4002 | 218,891 | 1 | 10 | 36,482
DECOR Notice One-Time Study | 3,000 | 1 | 5 | 250
Totals | 388,095 |  |  | 64,433

2. Beneficiary Recontact Report—20 CFR 404.703 and 404.705—0960-0536. Studies show that payees of children receiving Social Security benefits who marry fail to report the marriage. Therefore, SSA periodically determines eligibility for benefits for children ages 15 through 17 by asking for information about marital status using the SSA-1587-OCR-SM. SSA uses the information to detect overpayments and avoid continuing payment to those no longer entitled. Respondents are representative payees for children ages 15 through 17.

Type of Request: Revision of an OMB-approved information collection.

Number of Respondents: 982,357.

Frequency of Response: 1.

Average Burden per Response: 3 minutes.

Estimated Annual Burden: 49,118 hours.

3. Request for Proof(s) from Custodian of Records—20 CFR 404.703, 404.704, 404.720, 404.721, 404.723, 404.725, & 404.728—0960-0766. SSA sends records custodians the SSA-L707 on behalf of individuals who need help obtaining evidence of death, marriage, or divorce in connection with claims for benefits. SSA uses the information from the SSA-L707 to determine eligibility for benefits. The respondents are custodians including statistics and religious entities, coroners, funeral directors, attending physicians, and state agencies.

Type of Request: Revision of an OMB-approved information collection.

Type of respondents | Number of respondents | Frequency of response | Average burden per response (minutes) | Total annual burden (hours)
State or Local Government | 501 | 1 | 10 | 84
Private Sector | 99 | 1 | 10 | 17
Totals | 600 |  |  | 101

Faye Lipsky,
Reports Clearance Officer, Center for Reports Clearance, Social Security Administration.

[FR Doc. 2010-24058 Filed 9-24-10; 8:45 am]

BILLING CODE 4191-02-P